UNIFIED CARRIER REGISTRATION PLAN

Sunshine Act; Meeting

TIME AND DATE: August 11, 2022, 1:30 p.m. to 5:30 p.m., Central time.

PLACE: This meeting will take place at the Minneapolis Marriott City Center in Minneapolis, MN, 30 South 7th Street, Minneapolis, MN 55402 and will be accessible via conference call and via Zoom Meeting and Screenshare. Any interested person may call (i) 1-929-205-6099 (US Toll) or 1-669-900-6833 (US Toll) or (ii) 1-877-853-5247 (US Toll Free) or 1-888-788-0099 (US Toll Free), Meeting ID: 997 8535 5481, to listen and participate in this meeting. The website to participate via Zoom Meeting and Screenshare is https://kellen.zoom.us/meeting/register/tJ0qf-yrqz4uEtXBJWhM2TG6xVDoKdqaZNOW.

Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed, and the Board will consider adoption.

Ground Rules

➢ Board actions taken only in designated areas on agenda

IV. Approval of Minutes of the June 7, 2022 UCR Board Meeting—UCR Board Chair

For Discussion and Possible Board Action

Draft Minutes from the June 7, 2022 UCR Board meeting will be reviewed. The Board will consider action to approve.

V. Report of FMCSA—FMCSA Representative

The Federal Motor Carrier Safety Administration (FMCSA) will provide a report on relevant activity.

VI. State Officials From the North Carolina DOT and the South Carolina DMV Will Appear Before the UCR Board To Explain Their Non-Compliance With UCR State Performance Standards—UCR Executive Director

The UCR Executive Director will provide background regarding the non-compliance of North Carolina and South Carolina with UCR performance standards for reporting year 2021, and introduce the representative from each of those two states. The UCR Plan is asking North Carolina and South Carolina to explain why the deficiency occurred, what is being done to prevent a deficiency in the future, and to determine whether North Carolina or South Carolina need resources from UCR auditors to help each state achieve compliance in the future.

VII. Renewal of UCR Contracts With Contractors (Kellen and AAG3 LLC)—UCR Finance Subcommittee Chair and UCR Chief Legal Officer

For Discussion and Possible Board Action

The UCR Finance Subcommittee Chair and UCR Chief Legal Officer will discuss possible extensions to the contracts with the Kellen Company (UCR Administrator) and AAG3 LLC (UCR Executive Director). The Finance Subcommittee recommends the UCR Board extend both contracts as presented.

VIII. Establishment of a UCR Plan Enforcement Subcommittee—UCR Board Chair and UCR Executive Director

For Discussion and Possible Board Action

The UCR Board Chair and UCR Executive Director will discuss the merits of establishing a UCR Plan Enforcement Subcommittee. The Board may consider and take action to establish an UCR Plan Enforcement Subcommittee.

IX. Board Policy Applicable Once a Board Member Leaves the Board—UCR Board Chair

For Discussion and Possible Board Action

The UCR Board Chair will propose a new policy providing that once a Board member no longer serves as a Board Member, that Board member is automatically removed from all UCR Plan Subcommittees. The proposed policy would apply retroactively and prospectively. The Board may consider and take action to adopt a policy applicable to Board members who serve on UCR Plan Subcommittees but who no longer serve on the UCR Plan Board.

X. Subcommittee Reports

Audit Subcommittee—UCR Audit Subcommittee Chair

A. Additional Compliance Evaluation Tools for the Annual State Audit Progress Report—UCR Audit Subcommittee Chair

For Discussion and Possible Board Action

The UCR Audit Subcommittee Chair will discuss the current evaluation process for the participating states' audit programs currently required by the UCR Agreement. The Board may discuss and approve options to require states to review and close all unregistered motor carriers in Brackets 5 and 6. The Audit Subcommittee recommends the UCR Board adopt this proposal.

B. Potential Revisions to the UCR Handbook—UCR Audit Subcommittee Chair and UCR Executive Director

For Discussion and Possible Board Action

The UCR Audit Subcommittee Chair and UCR Executive Director will lead a discussion regarding potential revisions and clarifications to the language in the UCR Handbook pertaining to the usage of the term “operated” as it relates to a motor carrier beginning operations. An update on other proposed revisions to the UCR Handbook will also be presented and discussed. The Board may take action to approve revisions to the UCR Handbook. The Audit Subcommittee recommends the UCR Board adopt this proposal.

C. State Compliance Review Program—UCR Audit Subcommittee Chair and UCR Depository Manager

The UCR Audit Subcommittee Chair and the UCR Depository Manager will discuss the program objectives and states scheduled for review in 2022.

D. Maximizing the Value of the Should Have Been (SHB) and Enforcement Efficiency Tools—UCR Audit Subcommittee Chair, UCR Audit Subcommittee Vice-Chair and DSL Transportation Services, Inc. (DSL)

The UCR Audit Subcommittee Chair, UCR Audit Subcommittee Vice-Chair and DSL will provide an update on the value achieved by utilizing the SHB and other tools in the National Registration System (NRS). The discussion will highlight the benefit to the states' registration percentages by working with enforcement agencies in their respective states and explaining the value that issuing violations brings to the UCR Plan and the industry.

E. Review of States' Audit Compliance Rates for Registration Years 2021 and 2022—UCR Audit Subcommittee Chair

The UCR Subcommittee Chair will review audit compliance rates for the states for registration years 2021 and 2022 and related compliance percentages for FARs, retreat audits and registration compliance percentages.

Finance Subcommittee—UCR Finance Subcommittee Chair

A. Review Potential 2024 and 2025 Fee Recommendation—UCR Finance Subcommittee Chair and UCR Depository Manager

For Discussion and Possible Board Action

The UCR Finance Subcommittee Chair and the UCR Depository Manager will discuss the results of an analysis of actual and forecasted 2022 registration year revenues for the purpose of proposing a fee change recommendation for the 2024 and 2025 registration years. The Board may consider and take action to make a recommendation to the Secretary of the United States Department of Transportation (the “Secretary”) containing a fee change for the 2024 and 2025 UCR registration years, and all state entitlements and administrative costs for each of those two years. The Finance Subcommittee recommends the UCR Board submit a fee change recommendation to the Secretary as presented.

B. Review Performance of the 3 Current Pilot Projects—UCR Finance Subcommittee Chair and DSL

For Discussion and Possible Board Action

The UCR Finance Subcommittee Chair and DSL will review the performance of the 3 current pilot projects focused on enhancing registration percentages of motor carriers (new and old) domiciled in non-participating states. Contracts for the 3 pilot projects will terminate on September 30, 2022 unless the UCR Board takes action to extend. The Board may consider and take action to extend the 3 pilot projects for additional 1-year terms. The Finance Subcommittee recommends the UCR Board extend all 3 pilot projects for additional 1-year terms.

Education and Training Subcommittee—UCR Education and Training Subcommittee Chair

Update on Current and Future Training Initiatives—UCR Education and Training Subcommittee Chair and UCR Staff Executive

The Education and Training Subcommittee Chair and the UCR Staff Executive will provide an update on current and planned future training initiatives and the E-Certificate program.

Industry Advisory Subcommittee—UCR Industry Advisory Subcommittee Chair

Update on Truck Parking Initiative—UCR Industry Advisory Subcommittee Chair

For Discussion and Possible Board Action

The Industry Advisory Subcommittee Chair will provide an update on the truck parking initiative and the letter of recommendation tabled at the last UCR Plan Board Meeting on June 7, 2022. Such letter would direct the UCR Board Chair to draft, sign, and send a letter to Congress recommending enactment of legislation pertaining to providing additional parking to motor carriers. The Board may consider and approve a letter of recommendation to Congress to enact legislation pertaining to providing additional parking for motor carriers.

XI. Contractor Reports—UCR Executive Director

• UCR Executive Director's Report

The UCR Executive Director will provide a report covering recent activity for the UCR Plan.

• DSL Transportation Services, Inc.

DSL Transportation Services, Inc. will report on the latest data from the FARs program, discuss motor carrier inspection results, pilot projects and other matters.

• Seikosoft

Seikosoft will provide an update on recent/new activity related to the NRS.

• UCR Administrator Report (Kellen)

The UCR Staff Executive will provide a management report covering recent activity for the Depository, Operations, and Communications.

XII. Other Business—UCR Board Chair

The UCR Board Chair will call for any other business, old or new, from the floor.

XIII. Adjournment—UCR Board Chair

The UCR Board Chair will adjourn the meeting.

The agenda will be available no later than 5 p.m. Eastern time, August 3, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-16923 Filed 8-3-22; 11:15 am]

BILLING CODE 4910-YL-P